DEPARTMENT OF STATE

[Public Notice Number 6867]

U.S. Advisory Commission on Public Diplomacy; Notice of Meeting

The U.S. Advisory Commission on Public Diplomacy will hold a public meeting on February 11, 2010, in the conference room of the International Foundation for Electoral Systems (IFES), located at 1850 K Street, NW., Fifth Floor, Washington, DC 20006. The meeting will be held from 10 a.m. to 11:30 a.m. The Commissioners will discuss public diplomacy issues, including interagency collaboration in advancing U.S. government public diplomacy efforts.

The Advisory Commission was originally established under Section 604 of the United States Information and Exchange Act of 1948, as amended (22 U.S.C. 1469) and Section 8 of Reorganization Plan Numbered 2 of 1977. It was reauthorized pursuant to Public Law 111-70 (2009), 22 U.S.C. 6553.

The Advisory Commission is a bipartisan panel created by Congress to assess public diplomacy policies and programs of the U.S. government and publicly funded nongovernmental organizations. The Commission reports its findings and recommendations to the President, the Congress and the Secretary of State and the American people. Current Commission members include William Hybl of Colorado, who serves as Chairman; Jay Snyder of New York; Penne Korth Peacock of Texas; Lyndon Olson of Texas; John Osborn of Pennsylvania; and Lezlee Westine of Virginia.

Seating at this meeting is limited. To attend and for more information, please contact Carl Chan at (202) 632-2823. E-mail: chanck@state.gov.

Dated: January 12, 2010.
Carl Chan,
Executive Director, ACPD, Department of State.

[FR Doc. 2010-1597 Filed 1-26-10; 8:45 am]

BILLING CODE 4710-11-P